DEPARTMENT OF JUSTICE

8 CFR Part 1292

[EOIR Docket No. 176]

RIN 1125-AA72

Recognition and Accreditation

AGENCY: Executive Office for Immigration Review, Department of Justice.

ACTION: Notice of meeting.

SUMMARY: The Executive Office for Immigration Review (EOIR) is reviewing and considering amendments to the regulations governing the recognition of organizations and accreditation of representatives who appear before EOIR. EOIR seeks public comment on issues affecting these regulations and will host two open public meetings to discuss these regulations. The first meeting will be limited to a discussion of the recognition of organizations and the second will address accreditation of representatives.

DATES: Dates and Times: The first meeting will be held on Wednesday, March 14, 2012 at 1 p.m. The second meeting will be held on Wednesday, March 21, 2012 at 1 p.m.

ADDRESSES: The meetings will be held at 5107 Leesburg Pike, Suite 1800, Falls Church, VA 22041.

FOR FURTHER INFORMATION CONTACT: To RSVP for the meeting: Lauren Alder Reid, Counsel for Legislative and Public Affairs, 703-305-0289, PAO.EOIR@usdoj.gov. For each meeting, attendance will be limited to the first forty (40) individuals to RSVP. EOIR will also offer a conference call option for those who cannot physically attend the meeting. To attend the meeting via conference call, please RSVP with the name(s) of the attendee(s), the attendee's organization, and an email address where instructions may be sent for accessing the conference call.

SUPPLEMENTARY INFORMATION:

Background

EOIR is reviewing and considering amendments to the regulations at 8 CFR 1292.2 governing the recognition of organizations and accreditation of representatives who appear before EOIR. EOIR will be hosting two open public meetings to discuss these regulations. The purpose of these meetings is to solicit the views of non-governmental organizations and other interested members of the public regarding potential amendments to these regulations.

Agenda for March 14, 2012, Meeting

The first meeting, which will be held on March 14, 2012, will focus on issues addressing the recognition of organizations. An agenda for the first meeting is listed below.

1. Introductions.

2. Discussion of required documentation to establish eligibility for recognition. What documentation must an organization be required to provide in order to establish that it meets the eligibility requirements for recognition? For example, should EOIR require the organization to submit incorporation or tax documents to prove non-profit status?

3. Discussion of fraud prevention. EOIR is committed to preventing fraud and is mindful that the recognition and accreditation program may be susceptible to abuse. How can EOIR both prevent abuse of the system by organizations that may seek to exploit or misuse their recognized status, and encourage the participation of legitimate organizations in the program?

4. Discussion of nominal fees. Currently, recognized organizations are allowed to charge only a “nominal fee” for their services in order to ensure that they are serving a non-profit, religious, charitable, or social service purpose. See 8 CFR 1292.1(a)(1). Should recognized organizations be able to charge more than a nominal fee for their services? If so, under what circumstances? Would a system, in which an organization's eligibility for recognition is determined based on the percentage of its revenue from client fees, be an effective measure to ensure that the recognized organization is serving a non-profit religious, charitable, or social service purpose?

5. Discussion of withdrawal of recognition. Are the current procedures for withdrawal of recognition for an organization effective? See 8 CFR 1292.2(c). If not, how can the process be improved?

6. Discussion of definition of “low-income.” EOIR is considering defining “low-income” by using percentages of the Federal Poverty Guidelines amounts. For example, the Legal Services Corporation provides that the income of service recipients may not exceed 125% of the current official Federal Poverty Guidelines amounts. See 45 CFR part 1611. How should “low-income” be defined?

7. Adjourn.

Agenda for March 21, 2012 Meeting

The second meeting, which will be held on March 21, 2012, will focus on issues addressing the accreditation of representatives. An agenda for the second meeting is listed below.

1. Introductions.

2. Discussion of required training for accredited representatives. In order to ensure that accredited representatives maintain sufficient knowledge in immigration law and procedure to represent individuals adequately before the Department of Homeland Security and EOIR, should EOIR require that accredited representatives fulfill an annual immigration training requirement similar to a Continuing Legal Education (CLE) requirement for attorneys? What would be the appropriate amount and type of annual training for accredited representatives (e.g., requiring fifteen hours of CLE annually as many state bar associations require for licensed attorneys)?

3. Discussion of fraud prevention. EOIR is committed to preventing fraud and mindful that the recognition and accreditation program may be susceptible to abuse. How can EOIR both prevent abuse of the system by individuals who may seek to exploit or misuse their accredited status, and encourage the participation of legitimate individuals in the program?

4. Discussion of adequate supervision. Generally, accredited representatives are non-attorneys who provide advice and representation to individuals. What is the best way to ensure that accredited representatives receive adequate supervision in order to provide effective assistance and representation?

5. Adjourn.

Public Participation

EOIR welcomes responses to these questions in the form of written submissions, as well as in-person discussion at each respective meeting. To facilitate EOIR's ability to respond to comments at the meetings, the agency believes it will be most helpful to receive written answers to the questions before the meetings. Therefore, EOIR encourages parties to submit written answers no later than 5 p.m. on Tuesday, March 6, 2012, by email to PAO.EOIR@usdoj.gov. However, EOIR will also accept comments and written responses after the meetings. Final written submissions are due no later than 5 p.m. on Friday, March 30, 2012, by email to PAO.EOIR@usdoj.gov.

The meetings are open to the public, but advance notice of attendance is required to ensure adequate seating. Persons planning to attend should notify Lauren Alder Reid, Counsel for Legislative and Public Affairs, 703-305-0289, PAO.EOIR@usdoj.gov. For each meeting, participation will be limited to the first forty (40) individuals to RSVP, with an additional conference call option available.

Dated: February 7, 2012.
Lauren Alder-Reid,
Counsel for Legislative and Public Affairs.

[FR Doc. 2012-3725 Filed 2-16-12; 8:45 am]

BILLING CODE 4410-30-P